DEPARTMENT OF TRANSPORTATION

National Highway Traffic Safety Administration

[Docket No. NHTSA-2010-0060; Notice 1]

Ford Motor Company, Receipt of Petition for Decision of Inconsequential Noncompliance

The Ford Motor Company (Ford) ¹ has determined that certain model year 2010 Ford Taurus passenger cars, built from June 1, 2009, through October 5, 2009, and certain model year 2010 Lincoln MKT multi-purpose vehicles, built from June 29, 2009, through October 8, 2009, do not fully meet the windshield marking requirements of paragraph S6.2 of Federal Motor Vehicle Safety Standard (FMVSS) No. 205 Glazing Materials. On November 12, 2009, Ford filed an appropriate report pursuant to 49 CFR part 573, Defect and Noncompliance Responsibility and Reports.

¹ Ford is a domestic manufacturer of motor vehicles, incorporated under the laws of the State of Delaware, with offices at The American Road, Dearborn, Michigan.

Pursuant to 49 U.S.C. 30118(d) and 30120(h) (see implementing rule at 49 CFR part 556), Ford has petitioned for an exemption from the notification and remedy requirements of 49 U.S.C. Chapter 301 on the basis that this noncompliance is inconsequential to motor vehicle safety.

This notice of receipt of Ford's petition is published under 49 U.S.C. 30118 and 30120 and does not represent any agency decision or other exercise of judgment concerning the merits of the petition.

Ford estimates approximately 15,663 model year 2010 Ford Taurus passenger car models, built from June 1, 2009, through October 5, 2009, at Ford's Chicago Assembly Plant, and approximately 3,565 model year 2010 Lincoln MKT multi-purpose vehicle models, built from June 29, 2009, through October 8, 2009, at Ford's Oakville Assembly Plant, a total of approximately 19,228 vehicles are not in compliance with paragraph S6.2 of FMVSS No. 205 relating to windshield marking.²

² Ford additionally notes that the nonconforming windshields installed in the subject vehicles were manufactured by Zeledyne, Inc. (Zeledyne), at their facility located at 7200 W. Centennial Boulevard, Nashville, TN 37209.

Paragraph S6.2 of FMVSS No. 205 requires in pertinent part:

S6.2 A prime glazing manufacturer certifies its glazing by adding to the marks required by section 7 of ANSI/SAE Z26.1-1996, in letters and numerals of the same size, the symbol “DOT” and a manufacturer's code mark that NHTSA assigns to the manufacturer. * * *

Ford describes the noncompliance as the improper location of the “AS1” glazing marking. The standard requires that the “AS1” glazing marking be located in close proximity to the official designated trademark area (lower portion) of the windshield. However, Ford said that the “AS1” symbol is marked in the upper portion of the windshield, on both sides of the affected windshields and that the windshields conform to all other FMVSS No. 205 requirements.

Ford states the basis for why they believe this noncompliance is inconsequential to motor vehicle safety as:

No other Ford vehicles are affected by this condition and we are not aware of any field or owner complaints related to this condition. In our judgment, the condition does not present a risk to motor vehicle safety because the windshield fully meets the performance and physical requirements of FMVSS [No.] 205. Additionally repair service will be unaffected because the selection of replacement windshields is typically done utilizing a distributor, a catalog, or NAGS [National Auto Glass Specification] number. Furthermore, repairers will be able to determine the appropriate glazing because the upper portions of the windshield are properly labeled with the “AS1,” designation, the glazing is clearly marked as “Laminated,” and all other markings required by FMVSS [No.] 205 are properly labeled.

Additionally, Ford stated that Zeledyne discovered the noncompliance during its trademark content project study in which its laboratory personnel noticed that the “AS1” symbol was missing from the designated trademark location on the lower corner of the windshields for the affected vehicles.

Ford also has informed NHTSA that it has corrected the problem that caused these errors so that they will not be repeated in future production.

Therefore, Ford believes that the described noncompliance does not present a risk to motor vehicle safety. Thus, Ford requests that its petition, to exempt it from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: July 6, 2010.

Authority: (49 U.S.C. 30118, 30120: delegations of authority at CFR 1.50 and 501.8).

Issued on: May 27, 2010.
Claude H. Harris,
Director, Office of Vehicle Safety Compliance.

[FR Doc. 2010-13402 Filed 6-3-10; 8:45 am]

BILLING CODE 4910-59-P